DEPARTMENT OF LABOR

Office of the Secretary

[SECRETARY'S ORDER 3-2005]

Cancellation of Secretary's Orders

1. Purpose. To cancel Secretary's Orders which no longer serve the needs of the Department of Labor.

2. Background. Secretary's Orders are periodically reviewed to determine their applicability within the Department. Those Orders which have been incorporated in other departmental directives or no longer serve departmental needs are canceled.

3. The following Orders are canceled immediately.

Number | Subject
24-67 | Department of Labor Legislative Committee.
11-74 | Federal Advisory Council on Unemployment Insurance.
14-77 | Delegations of Authority.
8-79 | Law Enforcement Services at Job Corps Centers on Property Under Exclusive Federal Legislative Jurisdiction.
7-82 | Department of Labor Consumer Affairs Program.
2-84 | Transfer of Responsibility for Providing Administrative Support to the National Commission for Employment Policy and National Occupational Information Coordinating Committee.
4-90 | Delegation of Authority and Assignment of Responsibilities for Equal Employment Opportunity in Apprenticeship and Training.

Dated: September 19, 2005.
Elaine L. Chao,
Secretary of Labor.

[FR Doc. 05-19793 Filed 10-3-05; 8:45 am]

BILLING CODE 4510-23-P